DEPARTMENT OF THE INTERIOR

Bureau of Land Management

[NV-030-1430-ES; NVN 61027]

Notice of Realty Action; Recreation and Public Purposes Act Classification; Douglas County, NV

AGENCY: Bureau of Land Management, Interior.

ACTION: Notice.

SUMMARY: The following described land, comprising 85.67 acres, has been examined and is determined to be suitable for classification for lease or conveyance pursuant to the authority in the Recreation and Public Purposes Act, as amended (43 U.S.C. 869 et seq.):

Mt. Diablo Meridian, Nevada

T. 14 N., R. 20 E.

sec. 5, Lots 3, 4, 9 and 10 and S½NW¼SW¼SW¼SW¼, S½SW¼SW¼SW¼,

W½SW¼SE¼SW¼SW¼.

sec. 6, S½NE¼SE¼SE¼SE¼, S½SE¼SE¼SE¼.

sec. 7, E½NE¼NE¼NE¼, S½NE¼NE¼.

sec. 8, N½NW¼NW¼, SW¼NW¼NW¼, N½SE¼NW¼NW¼, SW¼SE¼NW¼NW¼.

Containing 85.67 acres.

DATES: For a period of 45 days from the date of publication of this notice in the Federal Register, interested parties may submit comments.

ADDRESSES: Written comments should be sent to: Carson City Field Office, Bureau of Land Management, 5665 Morgan Mill Road, Carson City, NV 89701. Any adverse comments will be reviewed by the State Director. In the absence of any adverse comments, the classification will become effective 60 days from the date of publication of this notice in the Federal Register.

FOR FURTHER INFORMATION CONTACT: Charles J. Kihm, Realty Specialist, Bureau of Land Management, 5665 Morgan Mill Road, Carson City, Nevada 89701; (702) 885-6000.

SUPPLEMENTARY INFORMATION: The public land is located within Douglas County, Nevada. The land is not needed for Federal purposes. Lease or conveyance is consistent with current BLM land use planning and would be in the public interest. The Carson City Field Office has received several applications from churches expressing an interest in constructing churches and schools on the land.

The lease/patent, when issued will be subject to the following terms, conditions and reservations:

1. Provisions of the Recreation and Public Purposes Act and to all applicable regulations of the Secretary of the Interior.

2. A right-of-way thereon for ditches and canals constructed by the authority of the United States. Act of August 30, 1890 (43 U.S.C. 945).

3. All mineral deposits in the land so patented, and to it, or persons authorized by it, the right to prospect for, mine and remove such deposits from the same under applicable law and regulations to be established by the Secretary of the Interior.

4. Those rights for highway purposes granted to the Nevada Department of Transportation, by right-of-way CC 018400, and its assigns, under the Act of November 9, 1921 (42 Stat. 216).

5. Those rights for gas pipeline purposes that have been granted to Paiute Pipeline Company, and its assigns, by rights-of-way Nev 064632 and N 17001 under the Act of February 25, 1920 (41 Stat. 0437; 30 U.S.C. 185, sec. 28).

6. Those rights for gas pipeline purposes that have been granted to Southwest Gas Corporation, and its assigns, by rights-of-way N 58973 and N 59816 under the Act of February 25, 1920 (41 Stat. 0437; 30 U.S.C. 185, sec. 28).

7. Those rights for communication line purposes that have been granted to Verizon California, Inc., and its assigns, by right-of-way N 40377 under the Act of October 21, 1976 (90 Stat. 2776; 43 U.S.C. 1761).

8. Those rights for access road purposes that have been granted to Hilltop Community Church, and its assigns, by right-of-way N 39139 under the Act of October 21, 1976 (90 Stat. 2776; 43 U.S.C. 1761).

9. Those rights for road and water pipeline purposes that have been granted to Douglas County, and its assigns, by rights-of-way N 56768, N 59346, N 59540 and N 74267 under the Act of October 21, 1976 (90 Stat. 2776; 43 U.S.C. 1761).

10. Those rights for drainage facility purposes that have been granted to the Indian Hills GID, and its assigns, by right-of-way N 58950 under the Act of October 21, 1976 (90 Stat. 2776; 43 U.S.C. 1761).

Upon publication of this notice in the Federal Register, the lands will be segregated from all other forms of appropriation under the public land laws, including the general mining laws but not the mineral leasing laws, the material disposal laws, or the Geothermal Steam Act. The segregation shall terminate upon issuance of a conveyance document or publication in the Federal Register of an order specifying the date and time of opening. A previous classification for Recreation and Public Purposes under case number N 4481, as it affects the described land, is no longer appropriate and is hereby terminated.

Dated: March 7, 2003.
Charles P. Pope,
Assistant Manager, Non-renewable Resources, Carson City Field Office.

[FR Doc. 03-9373 Filed 4-16-03; 8:45 am]

BILLING CODE 4310-HC-P